DEPARTMENT OF ENERGY

Federal Energy Regulatory Commission

[Docket No. CP01-141-000]

PG&E Gas Transmission, Northwest Corporation; Notice of Technical Conference

January 11, 2002.

On August 6, 2001, the Commission issued an order granting PG&E Gas Transmission, Northwest Corporation (PG&E Transmission) a certificate of public convenience and necessity authorizing a proposed pipeline expansion project. 96 FERC ¶ 61,194 (2001). The PG&E Transmission certificate was conditioned upon PG&E Transmission developing a fuel surcharge mechanism to ensure that expansion shippers, rather than existing shippers, be responsible for all fuel costs above those attributable to fuel absent the proposed expansion's additional 97,500 horsepower of compression. On October 26, 2001, on rehearing, the Commission reiterated its rationale for and affirmed the imposition of this fuel surcharge. 97 FERC ¶ 61,101 (2001).

On November 26, 2001, PG&E Transmission filed a motion requesting the Commission reconsider the fuel surcharge for expansion shippers. Alternatively, PG&E Transmission requests the Commission initiate a technical conference to discuss aspects of the fuel charge. PG&E Transmission states that without further guidance it is unable to develop an incremental surcharge that both insulates existing shippers from fuel costs attributable to expansion compression, and at the same time, protects expansion shippers from fuel costs which do not reflect their actual share of such costs.

Take notice that a technical conference to discuss issues associated with the PG&E Transmission expansion project's fuel surcharge will be held on Tuesday, February 5, 2002, at 10:00 a.m. in a room to be designated at the offices of the Federal Energy Regulatory Commission, 888 First Street, NE., Washington, DC 20426. The Conference will continue through Wednesday, February 6, 2002, if necessary. Parties objecting to aspects of PG&E Transmission's filings should be prepared to discuss alternatives.

All interested parties and staff are permitted to attend.

C.B. Spencer,
Acting Secretary.

[FR Doc. 02-1228 Filed 1-16-02; 8:45 am]

BILLING CODE 6717-01-P